DEPARTMENT OF TRANSPORTATION

Federal Aviation Administration

14 CFR Part 39

[Docket No. 2000-CE-22-AD]

RIN 2120-AA64

Airworthiness Directives; Eagle Aircraft Pty. Ltd. Model 150B Airplanes

AGENCY: Federal Aviation Administration, DOT.

ACTION: Notice of proposed rulemaking (NPRM).

SUMMARY: This document proposes to adopt a new airworthiness directive (AD) that would apply to certain Eagle Aircraft Pty. Ltd. (Eagle) Model 150B airplanes. The proposed AD would require you to inspect the rudder cables for fraying, cracks, nicks, etc. (referred to as damage), and replace any damaged cables. The proposed AD would also require you to replace the rudder cable pulleys with larger diameter pulleys to eliminate the possibility of further damage. The proposed AD is the result of mandatory continuing airworthiness information (MCAI) issued by the airworthiness authority for Australia. The actions specified by the proposed AD are intended to detect and correct damaged rudder cables caused by chafing of the cable against the pulleys. Continued airplane operation with damaged cables could result in rudder cable system failure with possible loss of airplane control.

DATES: The Federal Aviation Administration (FAA) must receive any comments on this proposed rule on or before February 23, 2001.

ADDRESSES: Submit comments in triplicate to FAA, Central Region, Office of the Regional Counsel, Attention: Rules Docket No. 2000-CE-22-AD, 901 Locust, Room 506, Kansas City, Missouri 64106. Comments may be inspected at this location between 8 a.m. and 4 p.m., Monday through Friday, holidays excepted.

Service information that applies to the proposed AD may be obtained from Eagle Aircraft Pty. Ltd., Lot 700 Cockburn Road, Henderson, WA 6166 Australia; telephone: (08) 9410 1077; facsimile: (08) 9410 2430. This information also may be examined at the Rules Docket at the address above.

FOR FURTHER INFORMATION CONTACT: Fredrick A. Guerin, Aerospace Engineer, FAA, Los Angeles Aircraft Certification Office, 3960 Paramount Boulevard, Lakewood, California 90712; telephone: (562) 627-5232; facsimile: (562) 627-5210.

SUPPLEMENTARY INFORMATION:

Comments Invited

How do I comment on the proposed AD? The FAA invites comments on this proposed rule. You may submit whatever written data, views, or arguments you choose. You need to include the rule's docket number and submit your comments in triplicate to the address specified under the caption ADDRESSES. The FAA will consider all comments received on or before the closing date. We may amend the proposed rule in light of comments received. Factual information that supports your ideas and suggestions is extremely helpful in evaluating the effectiveness of the proposed AD action and determining whether we need to take additional rulemaking action.

Are there any specific portions of the proposed AD I should pay attention to? The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

We are re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

How can I be sure FAA receives my comment? If you want us to acknowledge the receipt of your comments, you must include a self-addressed, stamped postcard. On the postcard, write “Comments to Docket No. 2000-CE-22-AD.” We will date stamp and mail the postcard back to you.

Discussion

What events have caused this proposed AD? The Civil Aviation Safety Authority (CASA), which is the airworthiness authority for Australia, notified FAA that an unsafe condition may exist on certain Eagle Model 150B airplanes. The CASA reports an occurrence where frayed rudder cables were found on an Eagle Model 150B airplane. Further investigation reveals that the diameter of the rudder cable pulleys is too small and cables rub against these pulleys.

What are the consequences if the condition is not corrected? Continued airplane operation with damaged cables could result in rudder cable system failure with possible loss of airplane control.

Is there service information that applies to this subject? Eagle has issued the following service bulletins:

_Service Bulletin No. 1059, dated January 21, 1999, which includes procedures for inspecting the rudder cables for fraying, cracks, nicks, etc. (referred to as damage), and specifies replacing any damaged cables; and

—Service Bulletin No. 1076, Revision 2, dated December 14, 1999, which includes procedures for replacing the rudder cable pulleys with larger diameter pulleys to eliminate the possibility of further damage.

What action did CAA take? The CASA classified these service bulletins as mandatory and issued Australian AD Number X-TS/2, effective December 24, 2000, in order to assure the continued airworthiness of these airplanes in Australia.

Was this in accordance with the bilateral airworthiness agreement? These airplane models are manufactured in Australia and are type certificated for operation in the United States under the provisions of section 21.29 of the Federal Aviation Regulations (14 CFR 21.29) and the applicable bilateral airworthiness agreement.

Pursuant to this bilateral airworthiness agreement, CASA has kept FAA informed of the situation described above.

The FAA's Determination and an Explanation of the Provisions of the Proposed AD

What has FAA decided? The FAA has examined the findings of CASA; reviewed all available information, including the service information referenced above; and determined that:

—The unsafe condition referenced in this document exists or could develop on other Eagle Model 150B airplanes of the same type design;

—The actions specified in the previously-referenced service information should be accomplished on the affected airplanes; and

—AD action should be taken in order to correct this unsafe condition.

What would the proposed AD require? This proposed AD would require you to:

—Inspect the rudder cables for fraying, cracks, nicks, etc. (referred to as damage), and replace any damaged cables; and

—Replace the rudder cable pulleys with larger diameter pulleys to eliminate the possibility of further damage.

Compliance Time of the Proposed AD

What is the compliance time of the proposed AD? The compliance time of the proposed AD would be to accomplish the inspection and rudder cable pulley replacement “within the next 100 hours time-in-service (TIS) after the effective date of this AD” and to accomplish any necessary cable replacement “prior to further flight after the inspection.”

Why are the compliance times of the Australian AD different from the compliance times in the proposed AD? The Australian AD requires (on Eagle Model 150B airplanes registered in Australia) the inspection within the next 5 hours of service and requires the pulley replacement within 100 hours of operation. These are the compliance times specified in the service information. We do not have justification to require the inspection within 5 hours of service. We use compliance times such as this when we have identified an urgent safety of flight situation. We believe that 100 hours TIS will give the owners/operators of the affected airplanes enough time to have the inspection and replacement accomplished without compromising the safety of the sailplanes.

By accomplishing both the inspection and replacement at the same time, the owners/operators of the affected airplanes only have their airplanes out of service once instead of twice.

Cost Impact

How many airplanes would the proposed AD impact? We estimate that the proposed AD affects 5 airplanes in the U.S. registry.

What would be the cost impact of the proposed AD on owners/operators of the affected airplanes? We estimate the following costs to accomplish the proposed inspection of the rudder cable and proposed replacement of the rudder cable pulley:

Labor cost | Parts cost | Total cost per airplane | Total cost on U.S. operators
5 workhours × $60 = $300 | $286 | $586 | $2,930

Replacement cables, if necessary, would cost $305 per airplane. We have no way of determining the number of rudder cables that would be found damaged during the proposed inspection.

Regulatory Impact

Would this proposed AD impact various entities? The regulations proposed herein would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Eagle Aircraft Pty. Ltd.: Docket No. 2000-CE-22-AD

(a) What airplanes are affected by this AD? This AD affects Model 150B airplanes, serial numbers 001 thru 030, that are certificated in any category.

(b) Who must comply with this AD? Anyone who wishes to operate any of the above airplanes must comply with this AD.

(c) What problem does this AD address? The actions specified by this AD are intended to detect and correct damaged rudder cables caused by chafing of the cable against the pulleys. Continued airplane operation with damaged cables could result in rudder cable system failure with possible loss of airplane control.

(d) What actions must I accomplish to address this problem? To address this problem, you must accomplish the following:

Actions | Compliance | Procedures
(1) Inspect the rudder cables for fraying, cracks, nicks, etc. (referred to as damage) | Within the next 100 hours time-in-service (TIS) after the effective date of this AD | In accordance with Eagle Service Bulletin No. 1059, dated January 21, 1999.
(2) Replace any rudder cables found damaged during the inspection | Prior to further flight after the inspection | In accordance with the instructions in the maintenance manual, as specified in Eagle Service Bulletin No. 1059, dated January 21, 1999.
(3) Replace the rudder cable pulleys with new rudder cable pulleys, part numbers MS20220-1 and MS20220-2, change pulley attachment, and reduce cable tension | Prior to further flight after the inspection | In accordance with Eagle Service Bulletin No. 1076, Revision 2, dated December 14, 1999.
(4) Do not install any rudder cable pulleys that are not part numbers MS20220-1 and MS20220-2 (with all associated hardware) | As of the effective date of this AD | Not applicable.

(e) Can I comply with this AD in any other way? You may use an alternative method of compliance or adjust the compliance time if:

(1) Your alternative method of compliance (AMOC) provides an equivalent level of safety; and

(2) The Manager, Los Angeles Aircraft Certification Office, approves your AMOC. You may submit your request through an FAA Principal Maintenance Inspector, who may add comments and then send it to the Manager, Los Angeles Aircraft Certification Office. You may also submit your request directly to the Los Angeles Aircraft Certification Office.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Fredrick A. Guerin, Aerospace Engineer, FAA, Los Angeles Aircraft Certification Office, 3960 Paramount Boulevard, Lakewood, California 90712; telephone: (562) 627-5232; facsimile: (562) 627-5210.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from Eagle Aircraft Pty. Ltd., Lot 700 Cockburn Road, Henderson WA 6166 Australia; telephone: (08) 9410 1077; facsimile: (08) 9410 2430. You may examine these documents at FAA, Central Region, Office of the Regional Counsel, 901 Locust, Room 506, Kansas City, Missouri 64106.

Note 2: The subject of this AD is addressed in Australian AD Number X-TS/2, effective December 24, 2000.

Issued in Kansas City, Missouri, on December 22, 2000.
Marvin R. Nuss,
Acting Manager, Small Airplane Directorate, Aircraft Certification Service.

[FR Doc. 00-33403 Filed 12-29-00; 8:45 am]

BILLING CODE 4910-13-P